DEPARTMENT OF HEALTH AND HUMAN SERVICES

Centers for Medicare & Medicaid Services

[CMS-3383-N2]

Clinical Laboratory Improvement Amendments of 1988 Exemption of Laboratories Licensed by the State of Washington; Exemption Period Extension

AGENCY: Centers for Medicare & Medicaid Services (CMS), Department of Health and Human Services (HHS).

ACTION: Notice; exemption period extension.

SUMMARY: The Centers for Medicare & Medicaid Services (CMS) announce the extension of the Clinical Laboratory Improvement Amendments of 1988 (CLIA) exemption period for the State of Washington. The exemption period is extended for 6 months, that is until April 2, 2024.

DATES: The exemption granted by this notice is effective from October 2, 2023 to April 2, 2024.

FOR FURTHER INFORMATION CONTACT: Mary Hasan, (410) 786-6480.

SUPPLEMENTARY INFORMATION: In the “Medicare, Medicaid, and CLIA Programs; Clinical Laboratory Improvement Amendments of 1988 Exemption of Laboratories Licensed by the State of Washington” notice that appeared in the September 30, 2019 Federal Register (84 FR 51591), we announced that laboratories located in and licensed by the State of Washington that possess a valid license under the Medical Test Site law, Chapter 70.42 of the Revised Code of Washington, are exempt from the requirements of the Clinical Laboratory Improvement Amendments of 1988 (CLIA) for a period of 4 years. This period expires on October 2, 2023. Pending re-approval of Washington State's CLIA exemption period, we are extending Washington State's current CLIA exemption period for 6 months, that is until April 2, 2024.

The Administrator of CMS, Chiquita Brooks-LaSure, having reviewed and approved this document, authorizes Chyana Woodard, who is the Federal Register Liaison, to electronically sign this document for purposes of publication in the Federal Register.

Chyana Woodard,
Federal Register Liaison, Centers for Medicare & Medicaid Services.

[FR Doc. 2023-21460 Filed 9-28-23; 8:45 am]

BILLING CODE 4120-01-P